DEPARTMENT OF HEALTH AND HUMAN SERVICES

Centers for Disease Control and Prevention

[CDC-2017-0028; Docket Number NIOSH-290]

Technical Report: The NIOSH Occupational Exposure Banding Process for Chemical Risk Management

AGENCY: National Institute for Occupational Safety and Health (NIOSH) of the Centers for Disease Control and Prevention (CDC), Department of Health and Human Services (HHS).

ACTION: Notice of availability.

SUMMARY: NIOSH announces the availability of Technical Report: The NIOSH Occupational Exposure Banding Process for Chemical Risk Management.

DATES: The final document was published on July 3, 2019 on the CDC website.

ADDRESSES: The document may be obtained at the following link: https://www.cdc.gov/niosh/docs/2019-132/.

FOR FURTHER INFORMATION CONTACT: Thomas J. Lentz (TLentz@cdc.gov), National Institute for Occupational Safety and Health, Centers for Disease Control and Prevention, 1090 Tusculum Ave, MS C-32, Cincinnati, OH 45226, phone (513) 533-8260 (not a toll free number).

SUPPLEMENTARY INFORMATION: On March 15, 2017, NIOSH published a request for public review in the Federal Register [82 FR 13809] of the draft version of the document Draft Current Intelligence Bulletin: The Occupational Exposure Banding Process: Guidance for the Evaluation of Chemical Hazards. NIOSH received comments from a range of respondents including academia, government agencies, industry, and other interested parties. All comments received were reviewed and addressed where appropriate. On the basis of comments received, NIOSH provided clarification in the final document to indicate that the guidance for occupational exposure banding describes a voluntary, consistent, and documented process with a decision logic to characterize chemical hazards so that timely, well-informed risk management decisions can be made for chemical substances that lack occupational exposure limits. Additional comments pertaining to usability, clarity of the guidance, and validation were addressed throughout the document and in specifying future research needs. NIOSH Responses to Peer Review and Public Comments documents can be found in the Supporting Documents section on www.regulations.gov for this docket.

John J. Howard,
Director, National Institute for Occupational Safety and Health, Centers for Disease Control and Prevention.

[FR Doc. 2019-14635 Filed 7-9-19; 8:45 am]

BILLING CODE 4163-18-P